NUCLEAR REGULATORY COMMISSION

Meeting of the Advisory Committee on Reactor Safeguards (ACRS) Subcommittee on NuScale

The ACRS Subcommittee on NuScale will hold meetings on May 14-16, 2019, at U.S. Nuclear Regulatory Commission, Two White Flint North, Conference Room T2D10, 11545 Rockville Pike, Rockville, MD 20852.

The meeting will be open to public attendance with the exception of portions that may be closed to protect information that is proprietary pursuant to 5 U.S.C. 552b(c)(4). The agenda for the subject meeting shall be as follows:

Tuesday, May 14-Thursday, May 16, 2019—8:30 a.m. Until 5:00 p.m. Each Day

The Subcommittee will review the staff's evaluation of Chapter 3.9.2, “Dynamic Testing and Analysis of Systems, Components and Equipment,” Chapter 14, “Initial Test Program and Inspections, Tests, Analyses and Acceptance Criteria,” Chapter 19, “Probabilistic Risk Assessment and Severe Accident Evaluation,” and Chapter 21, “Multi-Module Design Considerations.” The Subcommittee will hear presentations by and hold discussions with the NRC staff, NuScale and other interested persons regarding this matter. The Subcommittee will gather information, analyze relevant issues and facts, and formulate proposed positions and actions, as appropriate, for deliberation by the Full Committee.

Members of the public desiring to provide oral statements and/or written comments should notify the Designated Federal Official (DFO), Michael Snodderly (Telephone 301-415-2241 or Email: Michael.Snodderly@nrc.gov) five days prior to the meeting, if possible, so that appropriate arrangements can be made. Thirty-five hard copies of each presentation or handout should be provided to the DFO thirty minutes before the meeting. In addition, one electronic copy of each presentation should be emailed to the DFO one day before the meeting. If an electronic copy cannot be provided within this timeframe, presenters should provide the DFO with a CD containing each presentation at least thirty minutes before the meeting. Electronic recordings will be permitted only during those portions of the meeting that are open to the public. The public bridgeline number for the meeting is 866-822-3032, passcode 8272423. Detailed procedures for the conduct of and participation in ACRS meetings were published in the Federal Register on December 7, 2018 (83 FR 26506).

Detailed meeting agendas and meeting transcripts are available on the NRC website at http://www.nrc.gov/reading-rm/doc-collections/acrs. Information regarding topics to be discussed, changes to the agenda, whether the meeting has been canceled or rescheduled, and the time allotted to present oral statements can be obtained from the website cited above or by contacting the identified DFO. Moreover, in view of the possibility that the schedule for ACRS meetings may be adjusted by the Chairman as necessary to facilitate the conduct of the meeting, persons planning to attend should check with these references if such rescheduling would result in a major inconvenience.

If attending this meeting, please enter through the One White Flint North building, 11555 Rockville Pike, Rockville, Maryland. After registering with Security, please contact Paula Dorm (Telephone 301-415-7799) to be escorted to the meeting room.

Dated: April 30, 2019.
Lawrence Burkhart,
Chief, Technical Support Branch, Advisory Committee on Reactor Safeguards.

[FR Doc. 2019-09150 Filed 5-3-19; 8:45 am]

BILLING CODE 7590-01-P